DEPARTMENT OF ENERGY

Federal Energy Regulatory Commission

[Project No. 12642-003]

Wilkesboro Hydroelectric Company, LLC; Notice of Application Tendered for Filing With the Commission and Soliciting Additional Study Requests

October 13, 2009.

Take notice that the following hydroelectric application has been filed with the Commission and is available for public inspection.

a. Type of Application: Original Major License.

b. Project No.: P-12642-003.

c. Date filed: September 29, 2009.

d. Applicant: Wilkesboro Hydroelectric Company, LLC.

e. Name of Project: W. Kerr Scott Hydropower Project.

f. Location: The proposed project would be located at the existing Army Corps of Engineer's (Corps) W. Kerr Scott Dam on the Yadkin River, near Wilkesboro in Wilkes County, North Carolina.

g. Filed Pursuant to: Federal Power Act 16 U.S.C. 791(a)-825(r).

h. Applicant Contacts: Mr. Dean Edwards, P.O. Box 1565, Dover, FL 33527, (813) 659-3014, (813) 966-4300 Mr. Kevin Edwards, P.O. Box 143, Mayodan, NC 27027, (336) 589-6138, ph@piedmonthydropower.com.

i. FERC Contact: Brandi Sangunett at (202) 502-8393, or via e-mail at brandi.sangunett@ferc.gov.

j. Cooperating agencies: Federal, State, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 30, 2009.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

m. The application is not ready for environmental analysis at this time.

n. The proposed 4.0-megawatt (MW) W. Kerr Scott Project would utilize the existing Corps' W. Kerr Scott Dam and operate consistent with the Corp's operation plan, typically to maintain the normal surface elevation of W. Kerr Scott Reservoir at 1,030 feet mean sea level (msl). The proposed project consists of: (1) Two 8-foot-long penstocks; (2) an 80-foot-long by 30-foot-wide by 20-foot-high powerhouse, containing two vertical shaft turbines; (3) a 749-foot-long 12.25-inch-diameter discharge conduit; (4) a 3,600-foot-long, 12.4-kV transmission line; (5) substation; and (6) appurtenant facilities. The project would generate about 22.4 gigawatt hours (GWH) annually.

o. A copy of the application is available for review at the Commission in the Public Reference Room, or may be viewed on the Commission's Web site at http://www.ferc.gov, using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the North Carolina State Historic Preservation Officer (SHPO), as required by § 106, National Historic Preservation Act, and the regulations of the Advisory Council on Historic Preservation, 36, CFR, at § 800.4.

q. Procedural schedule: The application will be processed according to the following Hydro Licensing Schedule. Revisions to the schedule will be made as appropriate.

Issue Deficiency Letter | December 2009.
Issue Acceptance Letter | April 2010.
Issue Scoping Document 1 for comments | May 2010.
Request Additional Information | July 2010.
Issue Scoping Document 2 | August 2010.
Notice of application is ready for environmental analysis | August 2010.
Notice of the availability of the EA | January 2011.

Kimberly D. Bose,
Secretary.

[FR Doc. E9-25097 Filed 10-16-09; 8:45 am]

BILLING CODE 6717-01-P